DEPARTMENT OF HOMELAND SECURITY

Coast Guard

[USCG-2006-24068]

Collection of Information Under Review by Office of Management and Budget: OMB Control Numbers: 1625-0003

AGENCY: Coast Guard, DHS.

ACTION: Request for comments.

SUMMARY: In compliance with the Paperwork Reduction Act of 1995, this request for comments announces that the Coast Guard is forwarding an Information Collection Request (ICR), abstracted below, to the Office of Information and Regulatory Affairs (OIRA) of the Office of Management and Budget (OMB) to request an extension of their approval of the following collection of information. The ICR is 1625-0003, Coast Guard Boating Accident Report Form (CG-3865). Our ICR describes the information we seek to collect from the public. Review and comments by OIRA ensures that we impose only paperwork burdens commensurate with our performance of duties.

DATES: Please submit comments on or before January 19, 2007.

ADDRESSES: To make sure that your comments and related material do not reach the docket [USCG-2006-24068] or OIRA more than once, please submit them by only one of the following means:

(1)(a) By mail to the Docket Management Facility, U.S. Department of Transportation (DOT), room PL-401, 400 Seventh Street, SW., Washington, DC 20590-0001. (b) By mail to OIRA, 725 17th Street, NW., Washington, DC 20503, to the attention of the Desk Officer for the Coast Guard.

(2)(a) By delivery to room PL-401 at the address given in paragraph (1)(a) above, between 9 a.m. and 5 p.m., Monday through Friday, except Federal holidays. The telephone number is (202) 366-9329. (b) By delivery to OIRA, at the address given in paragraph (1)(b) above, to the attention of the Desk Officer for the Coast Guard.

(3) By fax to (a) the Facility at (202) 493-2298 or by contacting (b) OIRA at (202) 395-6566. To ensure your comments are received in time, mark the fax to the attention of Mr. Nathan Lesser, Desk officer for the Coast Guard.

(4)(a) Electronically through the Web site for the Docket Management System (DMS) at http://dms.dot.gov. (b) By e-mail to nlesser@omb.eop.gov.

The Docket Management Facility maintains the public docket for this notice. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, room 1236 (Attn: Mr. Arthur Requina), 2100 2nd Street, SW., Washington, DC 20593-0001. The telephone number is (202) 475-3523.

FOR FURTHER INFORMATION CONTACT: Mr. Arthur Requina, Office of Information Management, telephone (202) 475-3523 or fax (202) 475-3929, for questions on these documents; or Ms. Renee V. Wright, Program Manager, Docket Operations, (202) 493-0402, for questions on the docket.

SUPPLEMENTARY INFORMATION: The Coast Guard invites comments on the proposed collection of information to determine whether the collection is necessary for the proper performance of the functions of the Department. In particular, the Coast Guard would appreciate comments addressing: (1) The practical utility of the collections; (2) the accuracy of the estimated burden of the collections; (3) ways to enhance the quality, utility, and clarity of the information that is the subject of the collections; and (4) ways to minimize the burden of collections on respondents, including the use of automated collection techniques or other forms of information technology.

Comments to DMS or OIRA must contain the OMB Control Number of the ICRs addressed. Comments to DMS must contain the docket number of this request, [USCG 2006-24068]. For your comments to OIRA to be considered, it is best if OIRA receives them on or before the January 19, 2007.

Public participation and request for comments: We encourage you to respond to this request for comments by submitting comments and related materials. We will post all comments received, without change, to http://dms.dot.gov, they will include any personal information you have provided. We have an agreement with DOT to use their Docket Management Facility. Please see the paragraph on DOT's “Privacy Act Policy” below.

Submitting comments: If you submit a comment, please include your name and address, identify the docket number for this request for comment [USCG-2006-24068], indicate the specific section of this document or the ICR to which each comment applies, and give the reason for each comment. You may submit your comments and material by electronic means, mail, fax, or delivery to the Docket Management Facility at the address under ADDRESSES, but please submit them by only one means. If you submit them by mail or delivery, submit them in an unbound format, no larger than 8½ by 11 inches, suitable for copying and electronic filing. If you submit them by mail and would like to know that they reached the Facility, please enclose a stamped, self-addressed postcard or envelope.

The Coast Guard and OIRA will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Previous Request for Comments.

This request provides a 30-day comment period required by OIRA. The Coast Guard has already published the 60-day notice (71 FR 12378, March 10, 2006) required by 44 U.S.C. 3506(c)(2). That notice elicited comments from a firm that provides services in the analysis and design of automotive and marine products (“industry”), and from a state environmental protection agency (“State agency”). These comments requested a substantive revision to the CG-3865 report form.

The comments made recommendations to enhance the quality, utility and clarity of the information that is subject to the collection. Comments concerned the terminology used in the current Coast Guard Boating Accident Report Form (CG-3865) lacks clarity to such an extent, it likely makes it difficult for a vessel operator/owner to complete the form as required by 33 CFR 173.55. As currently designed for use by “the operator/owner of a vessel,” some terminology used in the report form could be unclear or unknown by the reporting individual. Additionally, it was stated that designing the accident report form for an operator/owner while at the same time taking into consideration the use of the form by law enforcement officials means the report form has evolved into an instrument that does not adequately address the distinct needs and knowledge level of law enforcement or the operator/owner. We concur that some revisions are needed to improve the CG-3865 report form for accuracy and thoroughness of the information subject to the collection as prescribed by Federal regulations, but we did not agree with all of the suggested changes.

Two issues related to potential rulemaking arose during our review of comments. First, the industry commenter has recommended that we amend the reporting provisions of 33 CFR 173.55(a) and (c) as soon a possible to include law enforcement officers, instead of just vessel operators or owners, as persons who may complete accident reports. We have treated this portion of industry's comment as a petition for rulemaking and have forwarded it to the Executive Secretary of the Marine Safety and Security Committee in accordance with 33 CFR 1.05-20, Petitions for rulemaking. We only note here that § 173.55 identifies who must submit—not who must complete—the report.

Second, while examining the form in response to comments, we noted a requirement in paragraph (w) of 33 CFR 173.57 (Contents of Report). Specifically, paragraph (w) requires the collection of vessel beam width at widest point and depth from transom to keel. This information is not solicited by the current form. Because it is required by paragraph (w), we have added this item to the revised form. We plan to re-examine this paragraph, particularly in light of requirements for the display of capacity information and a standard for safe loading in 33 CFR part 183, subparts B and C, respectively, to see if a revision in this regulation is warranted. The omission of this beam and transom solicitation in the current form may reflect that it has become impractical to collect this information from vessel operators/owners. After re-examining the usefulness of this information, we may decide a rulemaking is warranted to change the underlying requirement in § 173.57, but we can not eliminate the place to enter this information on the CG-3865 report form while this information is still required.

In response to submitted comments, the CG-3865 report form has been revised to eliminate terms and data elements where: (1) The practicality of collecting the information from vessel operators/owners is unrealistic and (2) the information is of limited value in supporting the strategies and objectives of the national Recreational Boating Safety (RBS) Program. The following is a summary of comments submitted within the scope of the solicitation that pertain specifically to the information collection request published in the Federal Register (71 FR 12378) on March 10, 2006.

Industry Comments

Comments submitted by industry focused on the practical utility of the collection as well as ways to enhance the quality and clarity of the information subjected to collection. The firm noted the current CG-3865 form lacks not only clarity, but a definition of terms which could make it difficult for a vessel operator/owner to complete. The firm also commented that we should consult with their stakeholders to correct the structural and content deficiencies of the report form. We concur with these comments and have recently evaluated information captured by the CG-3865 report form in consultation with the National Association of State Boating Law Administrators (NASBLA). NASBLA is comprised of Boating Law Administrators (BLAs) representing the fifty States, five U.S. Territories, and the District of Columbia, who by regulation, serve as the reporting authorities for their respective jurisdiction.

We do not concur with the comment that the CG-3865 report form is not in compliance with 33 CFR 173.55 (a) and (c). While appropriate State reporting authorities may assist appropriate individuals in the proper filing of the report, the report form and manner of reporting is in compliance with Federal regulations.

We concur that the CG-3865 report form includes technical information that lacks clarity and definition of terms that a lay person may not be able to respond to in a manner as prescribed by regulations. In response, we have made substantive revisions to the CG-3865 report form in an attempt to capture accurate information from individuals who are required to file the report. For example, the following terms have been eliminated: “Inherently buoyant,” “Tertiary,” “Whitewater boating,” “Off-throttle steering,” and “Runaway boat.” And explanatory text has been provided for the following abbreviations: VSC [vessel safety check], BUI [boating under the influence], and PFD [personal floatation device].

In response to the comment for providing instructions for the vessel operator/owner to describe information for the overall accident as well as information for the specific vessel they were operating, we have included explanatory text in the headings of each section of the report form. Additionally, the structure of the boating accident report database file has been modified to reflect the manner of reporting for the overall accident as well as for the specific vessel(s) involved in the accident.

We appreciate the recommendations submitted by industry for improving the quality of data captured by the accident report form. By revising the report form as recommended, we believe accident data is more accurately reported and subsequently captured in our boating accident report database file at the proper levels of causality and description. We believe the data and associated statistical information generated by the revised form will better show the factors—environmental, operator, and vessel—associated with boating accidents.

State Agency Comments

Comments submitted by the State agency focused on modifying the CG-3865 report form to clarify certain information. In response to these State agency comments:

1. We have modified the form to make it evident the information is required by the Coast Guard as prescribed by current federal regulations. We include in our explanatory text that State reporting authorities may require reports involving only damage to vessels and other property that is less than $2,000.

2. We concur that the most important information to collect regarding a VSC is when the vessel has been involved in an accident. The form has been modified to capture whether the respective vessels involved in accidents had current VSC decals.

3. We have clarified that information requested for a BUI arrest is specifically for the vessel operator involvement in the accident that is subject to the report, and not in reference to any prior BUI arrests.

4. Due to the limited practicality of collecting accurate engine serial number information from vessel operators/owners, serial number information has been eliminated from the revised CG-3865 report form.

5. The term “cruising” remains in the list of values associated with the operation of the vessel at the time of the accident.

6. The term “sudden medical condition” (heart attack, stroke, etc.) has been added to the list of contributing factors for an accident.

7. “Auxiliary equipment failure” now provides an example of such an occurrence (e.g., generator failure).

8. The entire “Accident Descriptors” section has been eliminated. However, “collision with a commercial vessel” has been added to the list for “Types of Accidents.”

9. The section requesting the “estimated number of days the vessel was used this year,” the “typical number of hours the vessel was used each day this year,” and the “typical number of persons on board the vessel used each day this year” has been eliminated from the report form.

10. In regard to the section of the report entitled, “Other People on Board this Vessel,” we concur with the removal of the last question asking for information on whether operators of the other vessels involved in the accident completed their reports. Individuals completing the form for their respective vessel typically would not know that same type of information for other vessels involved in the accident. In response, the “Other People on Board this Vessel” section has been eliminated.

11. In the section entitled “Witnesses not on this Vessel,” we have modified the title to include witnesses for the overall accident. We have also corrected the spelling of the word “separate.”

12. In the section entitled “For Agency Use Only,” we have modified the form to capture the primary and secondary causes of the accident in the opinion of the reviewing official.

13. In the section entitled “Person Completing the Report,” we have included a response for “Other” so the respondent is able to indicate who is submitting the report in case the operator and owner are unable to submit the report as required. In many of these cases, state reporting authority personnel (e.g., investigator) complete the CG-3865 report form to the best of their ability and submit the data to the Coast Guard.

14. The term “Bruise” has been placed in parentheses next to the term “ABRASION/CONTUSION.”

15. The term “Heart Attack” has been added to the list of types of injuries and the term “Other” has been added to the list of injury causes in the subsection entitled “Injury Caused By.”

16. “Victim Activity at the Time of the Accident” has been modified to be consistent in both the Non-Fatal Injury and Deceased sections of the report form. Since the term “Cruising” is appropriately designated as a vessel operation, it will remain listed as an “Operation at the Time of the Accident.”

We appreciate the comments submitted by the State agency in clarifying the type of information to be submitted by vessel operators/owners using the CG-3865 report form.

Information Collection Request

Title: Coast Guard Boating Accident Report Form (CG-3865).

OMB Control Number: 1625-0003.

Type of Request: Extension of a currently approved collection.

Affected Public: Operators of vessels that are being used for recreational purposes or those vessels that are required to be numbered, when as a result of an occurrence that involves the vessel or its equipment if any one of the following occurs: (1) A person dies; (2) A person is injured and requires medical treatment beyond first aid; (3) Damage to vessels and other property totals $2,000 or more or there is a complete loss of any vessel; or (4) A person disappears from the vessel under circumstances that indicate death or injury. The owner of the vessel shall be the respondent when the operator is unable to serve as such.

Forms: CG-3865.

Abstract: Under the authority of Title 46 U.S.C., including 46 U.S.C. 6102 and 6307, the Coast Guard has been delegated the responsibility to collect, analyze, and publish statistical information obtained from recreational boat numbering and casualty reporting systems. Information collected from Coast Guard Boating Accident Report Form (CG-3865) enables the Coast Guard to fulfill this statutory requirement.

Burden Estimate: The estimated burden has decreased from 3,250 hours to 2,500 hours a year.

Dated: December 13, 2006.
R.T. Hewitt,
Rear Admiral, Assistant Commandant for Command, Control, Communications, Computers and Information Technology.

[FR Doc. E6-21644 Filed 12-19-06; 8:45 am]

BILLING CODE 4910-15-P